DEPARTMENT OF COMMERCE

National Oceanic and Atmospheric Administration

RIN 0648-XC037

Endangered Species; File No. 16556

AGENCY: National Marine Fisheries Service (NMFS), National Oceanic and Atmospheric Administration (NOAA), Commerce.

ACTION: Issuance of permit.

SUMMARY: Notice is hereby given that NMFS Northeast Fisheries Science Center (NEFSC; Responsible Party: Dr. William Karp), 166 Water St., Woods Hole, MA 02543 has been issued a permit to take loggerhead (Caretta caretta), leatherback (Dermochelys coriacea), Kemp's ridley (Lepidochelys kempii), and green (Chelonia mydas) sea turtles for purposes of scientific research.

ADDRESSES: The permit and related documents are available for review upon written request or by appointment in the following offices:

Permits and Conservation Division, Office of Protected Resources, NMFS, 1315 East-West Highway, Room 13705, Silver Spring, MD 20910; phone (301) 427-8401; fax (301) 713-0376;

Northeast Region, NMFS, 55 Great Republic Drive, Gloucester, MA 01930; phone (978) 281-9328; fax (978) 281-9394; and

Southeast Region, NMFS, 263 13th Ave South, St. Petersburg, FL 33701; phone (727) 824-5312; fax (727) 824-5309.

FOR FURTHER INFORMATION CONTACT: Amy Hapeman or Kristy Beard, (301) 427-8401.

SUPPLEMENTARY INFORMATION: On May 29, 2012, notice was published in the Federal Register (77 FR 31586) that a request for a scientific research permit to take loggerhead, leatherback, Kemp's ridley, and green sea turtles had been submitted by the above-named organization. The requested permit has been issued under the authority of the Endangered Species Act of 1973, as amended (ESA; 16 U.S.C. 1531 et seq.) and the regulations governing the taking, importing, and exporting of endangered and threatened species (50 CFR parts 222-226).

The NEFSC has been issued a five-year permit to continue sea turtle ecological research in the Western Atlantic (Florida Keys through Maine). Researchers may capture sea turtles by hand, using nets, or obtain them from other legal authorities. Sea turtles may be counted, examined, photographed, marked, biologically sampled, and/or have transmitters attached to the carapace prior to release and then temporarily tracked. One sea turtle may accidentally die each year during research. Researchers may also salvage carcass, tissue, and parts from dead animals encountered during surveys. A portion of the requested research procedures are not being authorized at this time.

Issuance of this permit, as required by the ESA, was based on a finding that such permit (1) was applied for in good faith, (2) will not operate to the disadvantage of such endangered or threatened species, and (3) is consistent with the purposes and policies set forth in section 2 of the ESA.

Dated: April 10, 2013.
P. Michael Payne,
Chief, Permits and Conservation Division, Office of Protected Resources, National Marine Fisheries Service.

[FR Doc. 2013-08786 Filed 4-12-13; 8:45 am]

BILLING CODE 3510-22-P